ENVIRONMENTAL PROTECTION AGENCY

[EPA-R09-OAR-2014-0545; FRL-9926-14-Region-9]

Decision To Issue Clean Air Act Permit for the Four Corners Power Plant

AGENCY: United States Environmental Protection Agency (EPA).

ACTION: Notice of final agency action.

SUMMARY: This notice announces that the Environmental Protection Agency (EPA) issued a final permit decision for a Clean Air Act Prevention of Significant Deterioration (PSD) permit and Minor New Source Review (NSR) Permit in Indian Country to Arizona Public Service Company (APS) for the construction of add-on pollution controls for the Four Corners Power Plant (FCPP). Specifically, the permit authorizes APS to construct and operate selective catalytic reduction (SCR) systems, including ancillary equipment, on two existing coal-fired electric steam generating units at FCPP.

DATES: EPA Region 9 issued a final PSD permit decision for the FCPP on December 19, 2014. The permit became effective 30 days after the service of notice of the final permit decision. Pursuant to section 307(b)(1) of the Clean Air Act, 42 U.S.C. 7607(b)(1), judicial review of this final permit decision, to the extent it is available, may be sought by filing a petition for review in the United States Court of Appeals for the Ninth Circuit within 60 days of April 13, 2015.

ADDRESSES: Documents relevant to the above-referenced permit are available for public inspection during normal business hours at the following address: U.S. Environmental Protection Agency, Region 9, 75 Hawthorne Street, San Francisco, CA 94105-3901. To arrange for viewing of these documents, call Lisa Beckham at (415) 972-3811. Due to building security procedures, at least 48 hours advance notice is required.

FOR FURTHER INFORMATION CONTACT: Lisa Beckham, EPA Region 9, (415) 972-3811, beckham.lisa@epa.gov. Key portions of the administrative record for this decision (including the final permit, all public comments, EPA's responses to the public comments, and additional supporting information) are available through a link at Region 9's Web site, http://www.epa.gov/region9/air/permit/r9-permits-issued.html#psd, or at www.regulations.gov (Docket ID # EPA-R09-OAR-2014-0545).

NOTICE OF FINAL ACTION AND SUPPLEMENTARY INFORMATION: On December 19, 2014, EPA Region 9 issued its final permit decision to APS authorizing the construction and operation of add-on pollution controls at the FCPP—PSD Permit No. NN 14-01 and Tribal Minor NSR Permit T-002-NN. EPA issued a Prevention of Significant Deterioration (PSD) permit and Minor New Source Review (NSR) Permit in Indian Country that grants conditional approval to APS, in accordance with the PSD regulations (40 CFR 52.21) and the Minor NSR regulations for Indian Country (40 CFR 49.151-161). The permit authorizes APS to construct and operate SCR systems, including ancillary equipment, on two existing coal-fired electric steam generating units at FCPP.

During the public comment period and public hearings, EPA received written and oral comments regarding its proposed permit action to approve the FCPP SCR project. EPA carefully reviewed the public hearing testimony and each of the written comments submitted and, after consideration of the expressed views of all commenters, the pertinent Federal statutes and regulations, and additional material relevant to the application and contained in our Administrative Record, EPA made a decision, in accordance with 40 CFR 52.21, to issue a final PSD permit and, in accordance with 40 CFR 49.151-161, to issue a final Tribal Minor NSR permit to APS.

Within 30 days after the service of notice announcing the final permit decision, any person who filed comments on the proposed permit for the FCPP SCR project or participated in any of the public hearings for the FCPP SCR project had the opportunity pursuant to 40 CFR part 124 to petition EPA's Environmental Appeals Board (EAB) to review any condition of the final permit. Any person who did not file comments or participate in the public hearings could petition for administrative review only to the extent that changes were made from the proposed to the final permit decision. No petitions for review were filed with the EAB. As such, the final permit became effective 30 days after the service of notice of the final permit decision.

Dated: March 31, 2015.
Deborah Jordan,
Director, Air Division, Region IX.

[FR Doc. 2015-08476 Filed 4-10-15; 8:45 am]

BILLING CODE 6560-50-P